ENVIRONMENTAL PROTECTION AGENCY

40 CFR Parts 141 and 142

[FRL-6570-8]

Long Term 1 Enhanced Surface Water Treatment and Filter Backwash Rule Public Meeting

AGENCY: Environmental Protection Agency (EPA).

ACTION: Notice of public meeting.

SUMMARY: Notice is hereby given that the Environmental Protection Agency (EPA) is holding a public meeting on April 14, 2000 in the EPA Auditorium located at 401 M Street SW, Washington, DC 20460. The meeting will provide a description and summary of the proposed Long Term 1 Enhanced Surface Water Treatment and Filter Backwash Rule (LT1FBR) to be published in the Federal Register on April 10, 2000. The LT1FBR proposal, LT1FBR fact sheet, and LT1FBR draft implementation guidance may be obtained from www.epa.gov/safewater or by calling the Safe Drinking Water Hotline, telephone (800) 426-4791.

EPA is inviting all interested members of the public to attend the meeting. EPA is instituting an open door policy to allow any member of the public to attend the meeting for any length of time. Approximately 150 seats will be available for the public. Seats will be available on a first-come, first served basis.

DATES: The meeting will start at 9:00 AM on April 14 and will adjourn at 1:00 PM.

ADDRESSES: For additional information about the meeting, please contact Jeffery Robichaud (4607), U.S. Environmental Protection Agency, 1200 Pennsylvania Avenue NW, Washington, DC 20460, telephone (202) 260-7575, or by e-mail at robichaud.jeffery@epa.gov.

FOR FURTHER INFORMATION CONTACT: Jeffery Robichaud, Office of Ground Water and Drinking Water, telephone 202-260-2568.

Dated: March 29, 2000.
Janet D. Pawlukiewicz,
Acting Deputy Director, Office of Ground Water and Drinking Water.

[FR Doc. 00-8156 Filed 4-4-00; 8:45 am]

BILLING CODE 6560-50-P